DEPARTMENT OF AGRICULTURE

Forest Service

Southwestern Region: Invasive Plant Control Project, Carson and Santa Fe National Forests, New Mexico

AGENCY: Forest Service, USDA.

ACTION: Notice; correction.

SUMMARY: On December 15, 2000, the USDA Forest Service published a notice of intent (NOI) in the Federal Register (65 FR 78464) to prepare an environmental impact statement (EIS) for controlling invasive plants in the Carson and Santa Fe National Forests. The agency published a notice of availability (NOA) for the Draft EIS in the Federal Register (69 FR 42722) on July 16, 2004. A record of decision was signed on September 12, 2005 and an NOA was subsequently published in the Federal Register (70 FR 69967) on November 18, 2005. Members of the public appealed the decision before the Regional Forester of the Southwestern Region, who reviewed the decision in accordance with 36 CFR 215.7. The Regional Forester's decision, issued on February 23, 2006, reversed the Responsible Officials' decision on the project, with the following instructions:

(1) Complete the analysis of effects on the Management Indicator Species population trend for ptarmigan.

(2) Strengthen the disclosure of cumulative effects to wildlife species.

(3) Address the concern about the use of picloram in municipal watersheds.

On September 10, 2009, the USDA Forest Service published a corrected NOI in the Federal Register (74 FR 46562). The NOI listed the date of completion and distribution for the draft supplemental environmental impact statement (DSEIS) as being December 2009.

DATES: Revised dates: It is estimated the DSEIS will be completed and available for review no later than March 31, 2014. A 45-day comment period will follow. The Forest Service estimates the final supplemental environmental impact statement (FSEIS) and draft records of decision (each forest is preparing its own record of decision) will be released in July 2014. Pursuant to 36 CFR 218, a 45-day objection period will follow. The final records of decision are expected to be released no later than December 2014.

ADDRESSES: The DSEIS will be posted on these Web sites:

Carson National Forest: http://www.fs.usda.gov/land/carson/landmanagement

Santa Fe National Forest: http://www.fs.usda.gov/projects/santafe/landmanagement

A limited number of paper copies will be available upon request from either forest: Carson Forest Supervisor's Office, 208 Cruz Alta Road, Taos, NM 87571, Attn: Planning; or Santa Fe National Forest Supervisor's Office, 11 Forest Lane, Santa Fe, NM 87508, Attn: Julie Bain. The address to which to send comments will be published with the DSEIS.

FOR FURTHER INFORMATION CONTACT: Julie Bain, Forest Environmental Coordinator, Santa Fe National Forest Supervisor's Office, 11 Forest Lane, Santa Fe, NM 87508, (505) 438-5443, jbain@fs.fed.us.

SUPPLEMENTARY INFORMATION: An SEIS is needed to update certain elements of the analysis and correct deficiencies identified in the 2005 Invasive Plant Control Project Final Environmental Impact Statement and records of decision. The DSEIS will document the analysis of effects for the same range of alternatives as the 2005 final EIS. The proposed action, which includes the use of herbicides to control invasive species, remains the preferred alternative. The Forest Supervisors of the Carson and Santa Fe National Forests are the responsible officials. Each responsible official will decide whether the project will be implemented on their respective national forest and each will prepare a separate record of decision.

Importance of Public Participation in Subsequent Environmental Review: The comment period for the DSEIS will be 45 days in duration and commence the day after the NOA is published in the Federal Register. Legal notices announcing the availability of the DSEIS will also be published in the newspapers of record, the Albuquerque Journal and The Taos News, and posted on the Forests' Web sites. This project implements the land management plans and is not authorized under the Healthy Forest Restoration Act, and is therefore subject to subparts A and B of 36 CFR part 218. Objections to the draft records of decision will be accepted only from those who have previously submitted specific written comments regarding the proposed project during the designated opportunity for public comment in accordance with 36 CFR 218.5(a). Issues raised in objections must be based on previously submitted timely, specific written comments regarding the proposed project. Issues raised based on new information arising after the opportunity to comment will be considered as well.

Dated: October 21, 2013.
Joseph Norrell,
Deputy Forest Supervisor, Santa Fe National Forest.

[FR Doc. 2013-25708 Filed 10-29-13; 8:45 am]

BILLING CODE 3410-11-P